DEPARTMENT OF COMMERCE

National Oceanic and Atmospheric Administration

[I.D. 060204E]

Marine Mammals; Permit Nos. 782-1438-08, 782-1446-07, and 774-1437-07

AGENCY: National Marine Fisheries Service (NMFS), National Oceanic and Atmospheric Administration (NOAA), Commerce.

ACTION: Receipt of applications for amendment.

SUMMARY: Notice is hereby given that the following Permit Holders have requested that the Permits listed above be extended until June 30, 2005.

782-1438-08 and 782-1446-07—The National Marine Mammal Laboratory, National Marine Fisheries Service, NOAA, 7600 Sand Point Way, NE, BIN C15700, Bldg. 1, Seattle, WA 98115-0070, [Dr. Robyn Angliss, Principal Investigator]; and

774-1437-07—The National Marine Fisheries Service, Southwest Fisheries Science Center, P.O. Box 271, La Jolla, CA 92038, (Dr. Steve Reilly, Principal Investigator).

DATES: Written, telefaxed, or e-mail comments must be received on or before July 9, 2004.

ADDRESSES: The amendment request and related documents are available for review upon written request or by appointment in the following office(s):

Permits, Conservation and Education Division, Office of Protected Resources, NMFS, 1315 East-West Highway, Room 13705, Silver Spring, MD 20910; phone (301)713-2289; fax (301)713-0376.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: Permit Nos. 782-1438-08, 782-1446-07, and 774-1437-07

FOR FURTHER INFORMATION CONTACT: Ruth Johnson (301)713-2289.

SUPPLEMENTARY INFORMATION: The subject amendments to Permit Nos. 782-1438-08, 782-1446-07, and 774-1437-07 are requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No.782-1438-08 authorizes the permit holder to take various cetacean species by harassment during aerial/vessel surveys, biopsy sampling, capture/release to estimate species abundance; determine species distribution and stock structure; and collect data from beluga whales on seasonal distribution, surfacing intervals, movements relative to ice cover and human activities, genetic population structure, contaminant levels, and food preference. Activities occur in the North Pacific.

Permit No. 782-1446-07 authorizes the permit holder to take pinnipeds by harassment during aerial/ground/vessel surveys for stock assessment, capture, tag, and brand animals for long term identification of individuals and information on reproductive success, survival and longevity. Activities occur in California, Washington and Oregon.

Permit No. 774-1437-07 authorizes the permit holder to take pinnipeds and cetaceans by harassment during aerial/ground/vessel surveys and photogrammetry, biopsy sampling and photo-id studies to estimate abundance and determine population structure in U.S. territorial and international waters.

Dated: June 3, 2004.
Patrick Opay,
Acting Chief, Permits, Conservation and Education Division, Office of Protected Resources, National Marine Fisheries Service.

[FR Doc. 04-13035 Filed 6-8-04; 8:45 am]

BILLING CODE 3510-22-S